DEPARTMENT OF COMMERCE

Census Bureau

Agency Information Collection Activities; Submission to the Office of Management and Budget (OMB) for Review and Approval; Comment Request; Household Pulse Survey

AGENCY: U.S. Census Bureau, Commerce.

ACTION: Notice of information collection; request for comment.

SUMMARY: The Department of Commerce, as part of its continuing effort to reduce paperwork and respondent burden, invites the general public and other Federal agencies to take this opportunity to comment on the potential for extending data collection for the Household Pulse Survey During COVID-19 Epidemic. The Household Pulse Survey was launched on April 23, 2020 with approval from the Office of Management and Budget to continue data collection through July 31, 2020 (OMB No. 0607-1013). The Department of Commerce may determine it prudent to continue the Household Pulse Survey after July 31, 2020. This notice serves to inform the public about this possible continuance.

DATES: To ensure consideration, comments regarding the continued Household Pulse Survey information collection must be received on or before August 3, 2020.

ADDRESSES: Interested persons are invited to submit written comments to Cassandra Logan, Survey Director, U.S. Census Bureau, by email to Cassandra.Logan@census.gov or PRAcomments@doc.gov. Please reference OMB Control Number 0607-1013 in the subject line of your comments. Do not submit Confidential Business Information or otherwise sensitive or protected information.

FOR FURTHER INFORMATION CONTACT: Requests for additional information or specific questions related to collection activities should be directed to Cassandra Logan, Survey Director, U.S. Census Bureau, 4600 Silver Hill Road, HQ-7H157, Washington, DC 20233, (301) 763-1087, and Cassandra.Logan@census.gov.

SUPPLEMENTARY INFORMATION:

I. Abstract

The Census Bureau has developed the Household Pulse Survey as an experimental endeavor in cooperation with five other federal agencies. The survey is designed to produce near real-time data in a time of urgent and acute need. Changes in the measures over time will provide insight into individuals' experiences on social and economic dimensions during the period of the Covid-19 pandemic. This survey, conducted under the auspices of the Census Bureau's Experimental Data Series (https://www.census.gov/data/experimental-data-products.html), is designed to supplement the federal statistical system's traditional benchmark data products with a new data source that provides relevant and timely information based on a high quality sample frame, data integration, and cooperative expertise.

Question domains contributed by the Census Bureau (Census), Economic Research Service (ERS), Bureau of Labor Statistics (BLS), National Center for Health Statistics (NCHS), National Center for Education Statistics (NCES), and the Department of Housing (HUD) seek to measure employment status, spending, food security, housing, health, and education disruptions. Many of the questions that will be asked on this survey have been fielded on other surveys in the past. However, some of the questions are new, designed to explore potential impacts associated with the COVID-19 pandemic response.

II. Method of Collection

The Census Bureau will conduct this information collection online using Qualtrics as the data collection platform. Qualtrics currently is used at the Census Bureau for research and development surveys and provides the necessary agility to deploy the Household Pulse Survey quickly and securely. It operates in the Gov Cloud, is FedRAMP authorized at the moderate level, and has an Authority to Operate from the Census Bureau to collect personally identifiable and Title-protected data.

The Census Bureau will sample approximately 2,159,000 housing units, with an additional approximately 1,100,000 housing units each subsequent week of data collection. The survey will be administered over the course of 24 weeks starting April 23, 2020. Households will be contacted via email and asked to complete approximately 50 questions focused on employment, spending, food security, housing, health and educational disruption. Prior to production the survey was estimated to take 20 minutes; the actual time for survey participants to complete the survey now that it is in production is approximately 11 minutes.

Weekly survey estimates will be produced by weighting the results to various demographic controls from auxiliary sources like the Census Bureau official population estimates and the American Community Survey. Weekly source and accuracy documentation will provide details about the methods and quality of the survey estimates.

III. Data

OMB Control Number: 0607-1013.

Form Number(s): None.

Type of Review: Regular submission.

Affected Public: Individuals and households.

Estimated Number of Respondents: The total number of respondents is estimated at 93,400 per week (a reduction in the initial estimate of 108,000) for 24 weeks (an extension from the 12 weeks initially planned) for a total estimate of 2,241,600 respondents.

Estimated Time per Response: 11 minutes (actual time in production; initial estimate was 20 minutes).

Estimated Total Annual Burden Hours: 410,960.

Estimated Total Annual Cost to Public: $0.

Respondent's Obligation: Voluntary.

Legal Authority: Title 13, United States Code, Sections 8(b), 182 and 196.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2020-11966 Filed 6-2-20; 8:45 am]

BILLING CODE 3510-07-P